DEPARTMENT OF LABOR

Employment and Training Administration

[TA-W-38,129]

Eramet Marietta, Inc., Marietta, OH; Notice of Termination of Investigation

Pursuant to Section 221 of the Trade Act of 1974, an investigation was initiated on September 25, 2000, in response to a petition filed by a company official on behalf of workers at Eramet Marietta, Incorporated, Marietta, Ohio.

The petition group of workers is subject to an ongoing investigation for which a determination has not yet been issued (TA-W-38,113). Consequently, further investigation in this case would serve no purpose, and the investigation has been terminated.

Signed in Washington, DC this 16th day of October, 2000.
Linda G. Poole,
Certifying Officer, Division of Trade Adjustment Assistance.

[FR Doc. 00-28032 Filed 10-31-00; 8:45 am]

BILLING CODE 4510-30-M